DEPARTMENT OF LABOR

Employment and Training Administration

[TA-W-63,312]

Solon Mfg. Co.-Rhinelander, Rhinelander, WI; Notice of Termination of Investigation

Pursuant to section 221 of the Trade Act of 1974, as amended, an investigation was initiated on May 6, 2008 in response to a petition filed on behalf of the workers of Solon Mfg. Co.-Rhinelander, Rhinelander, Wisconsin.

The petition has been deemed invalid. The petition is signed by an unknown individual and is not the company official identified as the petitioner.

Consequently, further investigation in this case would serve no purpose, and the investigation has been terminated.

Signed at Washington, DC this 8th day of May 2008.
Linda G. Poole,
Certifying Officer, Division of Trade Adjustment Assistance.

[FR Doc. E8-10885 Filed 5-14-08; 8:45 am]

BILLING CODE 4510-FN-P